DEPARTMENT OF LABOR

Employment and Training Administration

[TA-W-53,487]

National Textiles, Eden, NC; Notice of Revised Determination on Reconsideration

By application of February 6, 2004, a company official requested administrative reconsideration regarding the Department's Negative Determination Regarding Eligibility to Apply for Worker Adjustment Assistance, applicable to the workers of the subject firm.

The initial investigation resulted in a negative determination issued on December 15, 2003, based on the finding that imports of cut fabric did not contribute importantly to worker separations at the subject plant and that there was no shift to a foreign country. The denial notice was published in the Federal Register on January 16, 2004 (69 FR 2622).

To support the request for reconsideration, the company official supplied additional information to supplement that which was gathered during the initial investigation. Upon further review, it was revealed that the company shifted production of cut fabric to Mexico and Honduras during the relevant period and that this shift contributed importantly to layoffs at the subject firm.

Conclusion

After careful review of the facts obtained in the investigation, I determine that there was a shift in production from the workers' firm or subdivision to Mexico and Honduras of articles that are like or directly competitive with those produced by the subject firm or subdivision. In accordance with the provisions of the Act, I make the following certification:

All workers of National Textiles, Eden, North Carolina who became totally or partially separated from employment on or after November 5, 2002 through two years from the date of certification are eligible to apply for adjustment assistance under Section 223 of the Trade Act of 1974.

Signed in Washington, DC this 11th day of March 2004.
Elliott S. Kushner,
Certifying Officer, Division of Trade Adjustment Assistance.

[FR Doc. 04-7176 Filed 3-30-04; 8:45 am]

BILLING CODE 4510-30-P